DEPARTMENT OF TRANSPORTATION

Federal Aviation Administration

[Docket No. FAA-2006-25190]

Notice of a Change in Direction Finder Availability Throughout United States, Excluding Alaska

AGENCY: Federal Aviation Administration (FAA), DOT.

ACTION: Request for public comment.

SUMMARY: The Federal Aviation Administration (FAA) is requesting public comment on a proposal to decommission all 54 Direction Finders (DF) and the associated DF approaches in all states other than Alaska. DF's have been used sparingly over the last nine years and the equipment is beyond its useful lifecycle. Improved radar coverage, pilot education and technologies such as area navigation (RNAV) and global positioning satellite (GPS) have reduced the utilization of DF steers and have essentially made DF's obsolete. A Federal Safety Risk Management Panel (SRMP) has determined that if pilots need orientation assistance, that our existing orientation methods, VOR, ADF, and GPS are reliable and meet the needs of our aviation community. Decommissioning would coincide with the Flight Services service provider's plan to consolidate the 58 flight service stations to 20 facilities.

DATES: Send your comments on or before July 28, 2006.

ADDRESSES: You may send comments [identified by Docket No. FAA-2006-25190] using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Privacy: We will post all comments we receive, without change, to http://dms.dot.gov, including any personal information you provide.

Docket: To read comments received, go to http://dms.dot.gov at any time or to Room PL-401 on the plaza level of the Nassif Building, 400 Seventh Street, SW., Washington, DC, between 9 a.m. and 5 p.m., Monday through Friday, except Federal holidays.

FOR FURTHER INFORMATION CONTACT: Jeanne Giering, Manager, Flight Services Safety and Operations Support; Mail Drop: 1575 Eye Street, NW., Room 9405; 800 Independence Avenue, SW., Washington, DC 20591; telephone (202) 385-7627; Fax (202) 385-7617; e-mail Jeanne.Giering@faa.gov.

SUPPLEMENTARY INFORMATION:

Comments Invited

The FAA invites interested persons to submit written comments or views. The most helpful comments reference a specific portion of the proposal, explain the reason for any recommended change, and include supporting data. We ask that you send us two copies of written comments.

The docket is available for public inspection before and after the comment closing date. If you wish to review the docket in person, go to the address in the ADDRESSES section of this preamble between 9 a.m. and 5 p.m., Monday through Friday, except Federal holidays. You may also review the docket using the Internet at the Web address in the ADDRESSES.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Issued in Washington, DC, on June 21, 2006.
John T. Staples,
Director, Flight Service Program Operations.

[FR Doc. 06-5734 Filed 6-27-06; 8:45 am]

BILLING CODE 4910-13-M